DEPARTMENT OF HEALTH AND HUMAN SERVICES

Centers for Disease Control and Prevention

Sunshine Act Meeting: Advisory Council for the Elimination of Tuberculosis Meeting (ACET)

Time and Date: 10:00 a.m.-3:30 p.m., EDT, August 22, 2017

Place: Web conference. Toll free number 1-877-927-1433, Participant Code: 12016435, To join the meeting: https://adobeconnect.cdc.gov/r5p8l2tytpq/.

Status: In accordance with section 10(a)(2) of the Federal Advisory Committee Act (Pub. L. 92-463), the Centers for Disease Control and Prevention announces the meeting of the ACET. This meeting is open to the public. The meeting room accommodates 100 ports. Persons who desire to make an oral statement, may request it at the time of the public comment period on August 22, 2017 at 3:20p.m. EDT. Public participation and ability to comment will be limited to space and time as it permits.

Matters to be Considered: This council advises and makes recommendations to the Secretary of Health and Human Services, the Assistant Secretary for Health, and the Director, CDC, regarding the elimination of tuberculosis (TB). Specifically, the Council makes recommendations regarding policies, strategies, objectives, and priorities; addresses the development and application of new technologies; and reviews the extent to which progress has been made toward eliminating tuberculosis. Agenda items include the following topics: (1) Update on making latent tuberculosis infection (LTBI) reportable from the Council of State and Territorial Epidemiologists (CSTE) meeting; (2) Update data on LTBI testing and treatment from Aggregate Reports for Tuberculosis Program Evaluation (ARPE); (3) Update on CDC's efforts to transition to whole-genome sequencing; (4) Updates from Workgroups; and (5) other tuberculosis-related issues. Agenda items are subject to change as priorities dictate.

Contact Person for More Information: Margie Scott-Cseh, CDC, 1600 Clifton Road NE., M/S E-07, Atlanta, Georgia 30333, telephone (404) 639-8317; Email: zkr7@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention (CDC).

[FR Doc. 2017-14516 Filed 7-6-17; 4:15 pm]

BILLING CODE 4163-18-P